COMMITTEE FOR PURCHASE FROM PEOPLE WHO ARE BLIND OR SEVERELY DISABLED

Procurement List; Proposed Additions and Deletions

AGENCY: Committee for Purchase From People Who Are Blind or Severely Disabled.

ACTION: Proposed additions to and deletions from the procurement list.

SUMMARY: The Committee is proposing to add product(s) and service(s) to the Procurement List that will be furnished by nonprofit agencies employing persons who are blind or have other severe disabilities, and delete and service(s) previously furnished by such agencies.

DATES: Comments must be received on or before: January 22, 2023.

ADDRESSES: Committee for Purchase From People Who Are Blind or Severely Disabled, 355 E Street SW, Suite 325, Washington, DC 20024.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the product(s) and service(s) listed below from nonprofit agencies employing persons who are blind or have other severe disabilities.

The following product(s) and service(s) are proposed for addition to the Procurement List for production by the nonprofit agencies listed:

Product(s)

NSN(s)—Product Name(s):

5345-01-360-9967—Flap Disc, 4½″ × ⅞″, 60 Grit, Type 29

5345-01-499-9809—Flap Disc, 4½″ × ⅞″, 40 Grit, Type 29

530009501N—Flap Disc, 4½″ × ⅞″ 40 Grit Type 27

530009502N—Flap Disc, 4½″ × ⅞″ 60 Grit Type 27

530009503N—Flap Disc, 4½″ × ⅞″ 80 Grit Type 27

530009603N—Flap Disc, 4½″ × ⅞″ 80 Grit, Type 29

Designated Source of Supply: Association for Vision Rehabilitation and Employment, Inc., Binghamton, NY.

Contracting Activity: FEDERAL ACQUISITION SERVICE, GSA/FSS GREATER SOUTHWEST ACQUISITI.

Distribution: B-List.

Mandatory For: Broad Government Requirement.

NSN(s)—Product Name(s):

5120-01-399-9477—Socket, ¼″ Drive, 9/32″ Shallow SAE 6 Point Fasteners

5120-01-355-1632—Socket Set, ¼″ Drive, 3/16″ Deep, SAE 6 Point Fastener

5120-01-335-0949—Socket Set, ¼″ Drive, 7/32″ Deep, SAE 6 Point Fastener

5120-01-348-9250—Socket Set, ¼″ Drive, ¼″ Deep, SAE 6 Point Fastener

5120-01-348-9251—Socket, Chrome, ¼″ Drive, 5 mm Shallow, Metric 6 Point Fastener

5120-01-348-9253—Socket, Chrome, ¼″ Drive, 6 mm Shallow, Metric 6 Point Fastener

5120-01-348-9254—Socket, Chrome, ¼″ Drive, 7 mm Shallow, Metric 6 Point Fastener

5120-01-348-9257—Socket, Chrome, ¼″ Drive, 10 mm Shallow, Metric 6 Point Fastener

5120-01-348-9291—Socket, Chrome, ¼″ Drive, 12 mm Shallow, Metric 6 Point Fastener

5120-01-348-9292—Socket, Chrome, ¼″ Drive, 13 mm Shallow, Metric 6 Point Fastener

5120-01-348-9293—Socket, Chrome, ¼″ Drive, 14 mm Shallow, Metric 6 Point Fastener

5120-01-348-7270—Socket, Chrome, ¼″ Drive, 5 mm Deep, Metric 6 Point Fastener

5120-01-348-7271—Socket, Chrome, ¼″ Drive, 5.5 mm Deep, Metric 6 Point Fastener

5120-01-348-7272—Socket, Chrome, ¼″ Drive, 6 mm Deep, Metric 6 Point Fastener

5120-01-348-7273—Socket, Chrome, ¼″ Drive, 7 mm Deep, Metric 6 Point Fastener

5120-01-112-9519—Socket, Chrome, ¼″ Drive, 8 mm Deep, Metric 6 Point Fastener

5120-01-348-7275—Socket, Chrome, ¼″ Drive, 9 mm Deep, Metric 6 Point Fastener

5120-01-080-6534—Socket, Chrome, ¼″ Drive, 10 mm Deep, Metric 6 Point Fastener

5120-01-348-7264—Socket, Chrome, ¼″ Drive, 11 mm Deep, Metric 6 Point Fastener

5120-01-348-7265—Socket, Chrome, ¼″ Drive, 12 mm Deep, Metric 6 Point Fastener

5120-01-348-7266—Socket, Chrome, ¼″ Drive, 13 mm Deep, Metric 6 Point Fastener

5120-01-348-7267—Socket, Chrome, ¼″ Drive, 14 mm Deep, Metric 6 Point Fastener

5120-01-348-9189—Socket, Chrome ⅜″ Drive, 10 mm Deep, Metric 6 Point Fastener

5120-01-348-9196—Socket, Chrome ⅜″ Drive, 17 mm Deep, Metric 6 Point Fastener

5120-01-348-9197—Socket, Chrome ⅜″ Drive, 18 mm Deep, Metric 6 Point Fastener

5120-01-335-1070—Extension, Chrome, ¼″ Drive, 2″ Knurled

5120-01-335-1071—Extension, Chrome, ¼″ Drive, 4″ Knurled

5120-01-335-0714—Breaker Bar, Chrome, ½″ Drive, 15 ½″

5120-01-335-0935—Socket, ¼″ Drive, 3/16″ Shallow SAE 6 Point Fasteners

5120-01-335-1057—Extension, Chrome, ⅜″ Drive, 3″ Knurled Friction Ball

5120-01-335-1059—Extension, Chrome, ⅜″ Drive, 6″ Knurled Friction Ball

5120-01-335-1061—Extension, Chrome, ⅜″ Drive, 11″ Knurled Friction Ball

5120-01-355-1865—Speeder Drive, Chrome, ⅜″ Drive, 18″

5120-01-348-9190—Socket, Chrome ⅜″ Drive, 11 mm Deep, Metric 6 Point Fastener

5120-01-348-9191—Socket, Chrome ⅜″ Drive, 12 mm Deep, Metric 6 Point Fastener

5120-01-348-9192—Socket, Chrome ⅜″ Drive, 13 mm Deep, Metric 6 Point Fastener

5120-01-348-9194—Socket, Chrome ⅜″ Drive, 15 mm Deep, Metric 6 Point Fastener

5120-01-348-9195—Socket, Chrome ⅜″ Drive, 16 mm Deep, Metric 6 Point Fastener

5120-01-348-9193—Socket, Chrome ⅜″ Drive, 14 mm Deep, Metric 6 Point Fastener

5120-01-348-9251—Socket, Chrome, ¼″ Drive, 5 mm Shallow, Metric 6 Point Fastener

5120-01-335-0934—Socket, ¼″ Drive, 7/32″ Shallow SAE 6 Point Fasteners

5120-01-335-1045—Universal Joint, Chrome, ⅜″ Drive, 2″ Friction Ball

5120-01-348-9107—Socket, Chrome ⅜″ Drive, 19 mm Deep, Metric 6 Point Fastener

5120-01-348-9187—Socket, Chrome ⅜″ Drive, 8 mm Deep, Metric 6 Point Fastener

5120-01-348-9188—Socket, Chrome ⅜″ Drive, 9 mm Deep, Metric 6 Point Fastener

5120-01-348-9255—Socket, Chrome, ¼″ Drive, 8 mm Shallow, Metric 6 Point Fastener

5120-01-348-9256—Socket, Chrome, ¼″ Drive, 9 mm Shallow, Metric 6 Point Fastener

5120-01-348-9290—Socket, Chrome, ¼″ Drive, 11 mm Shallow, Metric 6 Point Fastener

5120-01-335-0951—Socket Set, ¼″ Drive, 9/32″ Deep, SAE 6 Point Fastener

5120-01-348-9252—Socket, Chrome, ¼″ Drive, 5.5 mm Shallow, Metric 6 Point Fastener

5120-01-335-0950—Socket Set, ¼″ Drive, ¼″ Deep, SAE 6 Point Fastener

5120-01-355-1864—Breaker Bar, Chrome, ⅜″ Drive, 8-9/16″

Designated Source of Supply: Source of Supply: Wiscraft, Inc., Milwaukee, WI.

Contracting Activity: FEDERAL ACQUISITION SERVICE, FAS HEARTLAND REGIONAL ADMINISTRATO.

Distribution: B-List.

Mandatory For: Broad Government Requirement.

Service(s)

Service Type: Grounds Maintenance.

Mandatory for: US Air Force, Military Family Housing Units, Wright Patterson AFB, OH.

Designated Source of Supply: Source of Supply: Goodwill Easter Seals Miami Valley, Dayton, OH.

Contracting Activity: DEPT OF THE AIR FORCE, FA8601 AFLCMC PZIO.

Deletions

The following service(s) are proposed for deletion from the Procurement List:

Service(s)

Service Type: Food Service Attendant.

Mandatory for: US Army, Helemano Military Reservation, Building 300; Wahiawa, HI.

Designated Source of Supply: Opportunities and Resources, Inc., Wahiawa, HI.

Contracting Activity: DEPT OF THE ARMY, 0413 AQ HQ.

Service Type: Family Housing Maintenance.

Mandatory for: US Navy, NAVFAC SOUTHWEST, Naval Base Ventura County, 311 Main Road; Point Mugu, CA.

Designated Source of Supply: PRIDE Industries, Roseville, CA.

Contracting Activity: DEPT OF THE NAVY, NAVFAC SOUTHWEST.

Michael R. Jurkowski,
Acting Director, Business Operations.

[FR Doc. 2022-27932 Filed 12-22-22; 8:45 am]

BILLING CODE 6353-01-P